DEPARTMENT OF JUSTICE

[OMB Number 1121-NEW]

Agency Information Collection Activities; Proposed eCollection eComments Requested; State and Local White Collar Crime Program, 2014

AGENCY: Bureau of Justice Statistics, Department of Justice.

ACTION: 30-day Notice.

SUMMARY: The Department of Justice (DOJ), Office of Justice Programs, will be submitting the following information collection to the Office of Management and Budget (OMB) for review and approval in accordance with the Paperwork Reduction Act of 1995. The proposed information collection was previously published in the Federal Register Volume 79, Number 63, page 18582, on April 2, 2014, allowing a 60-day comment period. The reference data for this collection has changed from 2013 to 2014.

DATES: Comments are encouraged and will be accepted for an additional “thirty days” until September 15, 2014.

FOR FURTHER INFORMATION CONTACT: Written comments and/or suggestions regarding the items contained in this notice, especially the estimated public burden or associated response time, should be directed to OIRA_submission@omb.eop.gov.

SUPPLEMENTARY INFORMATION: Request written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the collection of information, including the validity of the methodology and assumptions used;

—Enhance the quality, utility and clarity of the information to be collected; and

—Minimize the burden of the collection of information on those who are to respond, including through the use of appropriate automated, electronic, mechanical, or other technological collection techniques or other forms of information technology, e.g. permitting electronic submission of responses.

Overview of this information collection:

(1) Type of information collection: New data collection, State and Local White Collar Crime Program, 2014.

(2) The title of the form/collection: State and Local White Collar Crime Program or SLWCCP, 2014.

(3) The agency form number, if any, and the applicable component of the Department sponsoring the collection: The form labels are SLWCCP-2014, Bureau of Justice Statistics, Office of Justice Programs, U.S. Department of Justice.

(4) Affected public who will be asked or required to respond, as well as a brief abstract Primary: State, DC, and territory Attorney General offices.

Abstract: The State and Local White Collar Crime Program (SLWCCP) will survey all state Attorney General (AG) offices on their criminal and civil white collar crime cases through a web-based questionnaire. For this collection, a white collar offense is defined as “any violation of law committed through non-violent means, involving lies, omissions, deceit, misrepresentation, or violation of a position of trust, by an individual or organization for personal or organizational profit.” The SLWCCP will obtain data on the types of offenses each AG office handles, the number of cases, the types of defendants (individual vs. business), and the outcomes of the cases. The SLWCCP will also collect information on AG office cooperation with regulatory agencies and federal and local governments.

(5) An estimate of the total number of respondents and the amount of time estimated for an average respondent to respond: 56 respondents with an average of 31 minutes to respond.

(6) An estimate of the total public burden (in hours) associated with the collection: 1,736 annual burden hours.

If additional information is required contact: Jerri Murray, Department Clearance Officer, United States Department of Justice, Justice Management Division, Policy and Planning Staff, Two Constitution Square, 145 N Street NE., Room 3E.405B, Washington DC 20530.

Dated: August 12, 2014.
Jerri Murray,
Department Clearance Officer for PRA, U.S. Department of Justice.

[FR Doc. 2014-19367 Filed 8-14-14; 8:45 am]

BILLING CODE 4410-18-P